ENVIRONMENTAL PROTECTION AGENCY

[FRL-7394-8]

Agency Information Collection Activities: Submission for OMB Review; Comment Request; Information Collection Request for RCRA Reporting and Recordkeeping Requirements for Incinerators, Boilers and Industrial Furnaces Burning Hazardous Waste

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Information Collection Request for RCRA Reporting and Recordkeeping requirements for Incinerators, Boilers and Industrial Furnaces Burning Hazardous Waste, OMB Control No. 2050-0073, expiring October 31, 2002. The ICR describes the nature of the information collection and its expected burden and cost; where appropriate, it includes the actual data collection instrument.

DATES: Comments must be submitted on or before November 18, 2002.

ADDRESSES: Send comments, referencing EPA ICR No. 1361.09 and OMB Control No. 2050-0073, to the following addresses: Sandy Farmer, U.S. Environmental Protection Agency, Collection Strategies Division (Mail Code 2822T), 1200 Pennsylvania Avenue, NW., Washington, DC 20460-0001; and to Office of Information and Regulatory Affairs, Office of Management and Budget (OMB), Attention: Desk Officer for EPA, 725 17th Street, NW., Washington, DC 20503.

FOR FURTHER INFORMATION CONTACT: For a copy of the ICR contact Susan Auby at EPA by phone at (202) 566-1672, by e-mail at auby.susan@epamail.epa.gov, or download off the Internet at http://www.epa.gov/icr and refer to EPA ICR No. 1361.09. For technical questions about the ICR contact: Margaret R. Bailey, 703/308-4043, fax number 703/308-8433, e-mail bailey.margaret@epa.gov.

SUPPLEMENTARY INFORMATION: Title: Information Requirements for Boilers and Industrial Furnaces: General Hazardous Waste Facility Standards, Specific Unit Requirements, and Part B Permit Application and Modification Requirements, OMB Control No. 2050-0073, EPA ICR No.1361.09, expiring October 31, 2002. This is a request for extension of a currently approved collection.

Abstract: EPA regulates the burning of hazardous waste in boilers, incinerators, and industrial furnaces (BIFs) under 40 CFR parts 63, 264, 265, and 266. This ICR describes most of the RCRA paperwork requirements that apply to owners and operators of BIFs. This includes the requirements under the comparable/syngas fuel specification at 40 CFR 261.38; the general facility requirements at 40 CFR parts 264 and 265, subparts B through H; the requirements applicable to BIF units at 40 CFR part 266; and the RCRA part B permit application and modification requirements at 40 CFR part 270. Examples of the paperwork collected under these requirements include one-time notices, certifications, waste analysis data, inspection and monitoring records, plans, reports, RCRA part B permit applications and modifications. EPA needs this information for the proper implementation, compliance tracking, and enforcement of the RCRA regulations. Based on information from the EPA Regions, the ICR estimates that 91 BIF facilities are currently subject to the RCRA hazardous waste program. Of these, 47 are under interim status and 44 are permitted. This renewal reflects new burden to the RCRA incinerator requirements promulgated on September 30, 1999 (64 FR 52828), and subsequent amendments, but also reflects a substantial reduction in the paperwork burden imposed on these facilities. This burden reduction is caused by a decrease in the BIF universe of 25 boilers which are assumed to receive the comparable fuels exclusions, and a rollback of burden added to another ICR (2050-0171). Thus, this renewal accounts for the addition of new requirements as well as the burden reductions to the BIF universe affected by the rulemaking, and its subsequent amendments. An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on June 26, 2002 (67 FR 43106), no comments were received.

Burden Statement: The annual public reporting and record keeping burden for this collection of information is estimated to average 156 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Business or other for-profit.

Estimated Number of Respondents: 91.

Frequency of Response: Annually.

Estimated Total Annual Hour Burden: 307,949 hours.

Estimated Total Annualized Capital, O&M Cost Burden: $26,353,000.

Send comments on the Agency's need for this information, the accuracy of the provided burden estimates, and any suggested methods for minimizing respondent burden, including through the use of automated collection techniques to the addresses listed above. Please refer to EPA ICR No. 1361.09 and OMB Control No. 2050-0073 in any correspondence.

Dated: October 7, 2002.
Oscar Morales,
Director, Collection Strategies Division.

[FR Doc. 02-26575 Filed 10-17-02; 8:45 am]

BILLING CODE 6560-50-P